FEDERAL COMMUNICATIONS COMMISSION

47 CFR Part 73

[MB Docket Nos. 14-50, 09-182, 07-294, and 04-256; Report No. 3064]

Petitions for Reconsideration of Action in Rulemaking Proceeding

AGENCY: Federal Communications Commission.

ACTION: Petition for Reconsideration.

SUMMARY: Petitions for Reconsideration (Petitions) have been filed in the Commission's rulemaking proceeding by David Oxenford and Kelly Donohue, on behalf of Connoisseur Media, LLC.; Richard J. Bodorff et al., on behalf of Nexstar Broadcasting, Inc.; and Rick Kaplan et al., on behalf of National Association of Broadcasters.

DATES: Oppositions to the Petitions must be filed on or before January 17, 2017. Replies to an opposition must be filed on or before January 24, 2017.

ADDRESSES: Federal Communications Commission, 445 12th Street SW., Washington, DC 20554.

FOR FURTHER INFORMATION CONTACT: Benjamin Arden, Media Bureau, (202) 418-2605; email: Benjamin.Arden@fcc.gov.

SUPPLEMENTARY INFORMATION: This is a summary of the Commission's document, Report No. 3064, released December 21, 2016. The full text of the Petitions is available for viewing and copying at the FCC Reference Information Center, 445 12th Street SW., Room CY-A257, Washington, DC 20554 or may be accessed online via the Commission's Electronic Comment Filing System at: http://apps.fcc.gov/ecfs/. The Commission will not send a copy of this document pursuant to the Congressional Review Act, 5 U.S.C. 801(a)(1)(A), because this document does not have an impact on any rules of particular applicability.

Subject: 2014 Quadrennial Regulatory Review—Review of the Commission's Broadcast Ownership Rules and Other Rules Adopted Pursuant to Section 202 of the Telecommunications Act of 1996, FCC 16-107, published at 81 FR 76220, November 1, 2016, in MB Docket Nos. 14-50, 09-182, 07-294, and 04-256. This document is being published pursuant to 47 CFR 1.429(e). See also 47 CFR 1.4(b)(1) and 1.429(f), (g).

Number of Petitions Filed: 3.

Federal Communications Commission.
Katura Howard,
Federal Register Liaison Officer, Office of the Secretary.

[FR Doc. 2016-31708 Filed 12-29-16; 8:45 am]

BILLING CODE 6712-01-P